DEPARTMENT OF VETERANS AFFAIRS

Special Medical Advisory Group, Amended Notice of Meeting

The Department of Veterans Affairs (VA) gives notice under the Federal Advisory Committee Act that a meeting of the Special Medical Advisory Group (the Committee) will be held on Friday, March 20, 2020 from 10:30 a.m. to 2:00 p.m. (Eastern Daylight Time). This meeting will be virtual and open to the public.

The purpose of the Committee is to advise the Secretary of Veterans Affairs and the Under Secretary for Health on the care and treatment of Veterans, and other matters pertinent to the Veterans Health Administration (VHA). The agenda for the meeting will include discussions regarding the Geriatrics Care Strategies and Precision Oncology.

Although no time will be allocated for receiving oral presentations from the public, members of the public may submit written statements for review by the Committee to: Ms. Brenda R. Faas, Designated Federal Officer, Veterans Health Administration (10B), 810 Vermont Avenue NW, Washington, DC 20420 or by email at VASMAGDFO@va.gov. Comments will be accepted until close of business on March 13, 2020. In the communication, the writers must identify themselves and state the organization, association of person(s) they represent.

Any member of the public wishing to attend virtually or seeking additional information should email VASMAGDFO@va.gov or call 202-461-7005, no later than close of business on March 13, 2020 to provide their name, professional affiliation, email address and phone number. The call-in number is 1-800-767-1750; Access Code: 50619#.

Dated: March 10, 2020.
LaTonya L. Small,
Federal Advisory Committee Management Officer.

[FR Doc. 2020-05221 Filed 3-13-20; 8:45 am]

BILLING CODE P